DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Proposed Project: GPRA Client Outcomes for the Substance Abuse and Mental Health Services Administration (SAMHSA)—(OMB No. 0930-0208)—Revision.

The mission of the Substance Abuse and Mental Health Services Administration (SAMHSA) is to improve the effectiveness and efficiency of substance abuse and mental health treatment and prevention services across the United States. All of SAMHSA's activities are designed to ultimately reduce the gap in the availability of substance abuse and mental health services and to improve their effectiveness and efficiency.

Data are collected from all SAMHSA discretionary services grants and contracts where client/participant outcomes are to be assessed at three points (for the Center for Substance Abuse Treatment (CSAT): Intake, discharge, and post-intake and for the Center for Substance Abuse Prevention (CSAP): pre-intervention, post-intervention, and follow-up). SAMHSA-funded projects are required to submit these data as a contingency of their award. The analysis of the data also will help determine whether the goal of reducing health and social costs of drug use to the public is being achieved.

The primary purpose of this data collection activity is to meet the reporting requirements of the Government Performance and Results Act (GPRA) by allowing SAMHSA to quantify the effects and accomplishments of SAMHSA programs.

The burden for the Center for Mental Health Services (CMHS) will be transferred from this data collection to its own separate Office of Management and Budget (OMB) clearance. The 60-day Federal Register Notice for National Outcome Measures (NOMS) for Consumers Receiving Mental Health Services was published on Friday, June 9, 2006 (71 FR 33476).

The burden for the CSAP gradually reduces due to the fact that this clearance request only pertains to a continuation of data collection for those grantees initially funded prior to FY2006. The new grantees (FY2006 and beyond) are approved under the NOMS for CSAP (OMB No. 0930-0230).

CSAT has no revisions to the instrument and the data collection time will remain the same but there is an increase in the number of respondents due to identifying the seven Screening, Brief Intervention, and Referral to Treatment program grantees that provide data uploads. The estimated annual response burden for this effort is provided in the table below:

Estimates of Annualized Hour Burden ¹
Center/form/respondent type | Number of respondents | Responses per respondent | Total responses | Hours per response | Total hour burden | Added burden proportion ² | Total annual burden hours
CSAP GPRA Participant Outcome Measures for Discretionary Programs
Participants:
FY2007 | 7,000 | 3 | 21,000 | .33 | 6,930 | .72 | 4,990
FY2008 | 3,000 | 3 | 9,000 | .33 | 2,970 | .72 | 2,138
CSAP Subtotal | 10,000 | 3 | 30,000 | .33 | 9,900 | .72 | 7,128
CSAP Annualized Subtotal | 5,000 |  | 15,000 |  |  |  | 3,564
CSAT GPRA Client Outcome Measures for Discretionary Programs
Clients |  |  |  |  |  |  |
Adults | 28,000 | 3 | 84,000 | .33 | 27,720 | .33 | 9,148
Adolescents | 3,900 | 4 | 15,600 | .33 | 5,148 | .33 | 1,699
Screening, Brief Intervention and Referral to Treatment (SBIRT): ³
Screening Only | 150,618 | 1 | 150,618 | .10 | 15,062 | 0 | 0
Brief Intervention | 27,679 | 3 | 83,037 | .16 | 13,286 | 0 | 0
Brief Tx & Referral to Tx | 9,200 | 3 | 27,600 | .33 | 9,108 | .33 | 3,006
SBIRT Client Subtotal | 187,497 |  | 261,255 |  | 37,456 |  | 3,006
Client Subtotal | 219,397 |  | 360,855 |  |  |  | 13,853
Data Extract by Grants: ⁴
Adult Records | 400 grants | 70 × 3 | 210 | .16 | 34 |  | 34
Adolescent Records | 73 grants | 53 × 4 | 212 | .16 | 34 |  | 34
Screening, Brief Intervention and Referral to Tx (SBIRT) Records:
Screening Only | 7 grants | 21,517 × 1 | 21,517 | .05 | 1,076 |  | 1,076
Brief Intervention | 7 grants | 3,954 × 3 | 11,862 | .08 | 949 |  | 949
Brief Tx & Referral to Tx | 7 grants | 1,314 × 3 | 3,942 | .16 | 631 |  | 631
Data Extract Subtotal | 480 |  | 37,743 |  |  |  | 2,724
Upload ⁵ | 5 grants |  | 171,639 | 1 hr. per 6,000 records | 29 |  | 29
Upload Subtotal | 5 grants |  | 171,639 |  |  |  | 29
CSAT Subtotal | 219,896 |  | 570,237 |  |  |  | 16,606
TOTAL | 224,896 |  | 585,237 |  |  |  | 20,170
NOTES:
1. This table represents the maximum additional burden if adult respondents provide three sets of responses/data and if CSAT adolescent respondents provide four sets of responses/data.
2. Added burden proportion is an adjustment reflecting customary and usual business practices programs engage in (e.g., they already collect the data items).
3. Screening, Brief Intervention, Treatment and Referral (SBIRT) grant program:
• 150,618 Screening Only (SO) respondents complete section A of the GPRA instrument, all of these items are asked during a customary and usual intake process resulting in zero burden; and
• 27,679 Brief Intervention (BI) respondents complete sections A & B of the GPRA instrument, all of these items are asked during a customary and usual intake process resulting in zero burden; and
• 9,200 Brief Treatment (BT) & Referral to Treatment (RT) respondents complete all sections of the GPRA instrument.
4. Data Extract by Grants: Grant burden for capturing customary and usual data.
5. Upload: 5 of the 7 SBIRT grants upload data; the other 2 grants conduct direct data entry.
6. Estimate based on $5.15 for program staff and $15 for IT staff.

Written comments and recommendations concerning the proposed information collection should be sent by February 5, 2007 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: December 22, 2006.
Elaine Parry,
Acting Director, Office of Program Services.

[FR Doc. E6-22576 Filed 1-5-07; 8:45 am]

BILLING CODE 4162-20-P